DEPARTMENT OF TRANSPORTATION

Federal Aviation Administration

[Docket No. FAA-2023-1427]

Agency Information Collection Activities: Requests for Comments; Clearance of Renewed Approval of Information Collection: National Flight Data Center Web Portal

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 26, 2023. The collection involves aeronautical information detailing the physical description and operational status of all components of the National Airspace System (NAS). The information to be collected will be used to update government, military, and private aeronautical databases, charts, publications, flight management systems, and in-flight tracking products.

DATES: Written comments should be submitted by January 16, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: John Graybill by email at: John.Graybill@faa.gov; phone: 202-267-3742.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0754.

Title: National Flight Data Center Web Portal.

Form Numbers: AD1-ADCP, AD3-ACC.

Type of Review: Renewal of an information collection.

Background: The Federal Register Notice with a 60-day comment period soliciting comments on the following collection of information was published on June 26, 2023 (88 FR 41464). 49 U.S.C 40103, “Sovereignty and Use of Airspace,” authorizes and directs the FAA to develop plans and policy for the use of the navigable airspace. The National Flight Data Center (NFDC) is the authoritative government source for collecting, validating, storing, maintaining, and disseminating aeronautical data concerning the United States and its territories to support real-time aviation activities. The information collected ensures the safe and efficient navigation of the national airspace. The information collected includes, but is not limited to, data regarding airport associated city, CTAF, UNICOM, facility use, runway lighting, airport sketches and diagrams, proposed aircraft call signs, and general remarks. NFDC collects this information and maintains it in the National Airspace System resources (NASR) database. NASR serves as the official repository for NAS data and is provided to government, military, and private producers of aeronautical databases, chants, publications, flight management systems, and in-flight tracking products at no charge. Information will be collected via digital forms. Failure to collect this information would result in obsolete and inaccurate data being reflected on aviation products.

Respondents: Approximately 5,211 representatives of U.S. public airports; airlines; and aircraft operators. Average of 6,495 responses annually.

Frequency: Information to be collected on occasion.

Estimated Average Burden per Response: 20 minutes for AD1-ADCP, 20 minutes for AD3-ACC, 24 minutes for Call Signs.

Estimated Total Annual Burden: 2,170 hours.

Issued in Washington, DC, on December 12, 2023.
John L. Graybill,
Aeronautical Information Specialist, Data Systems Team, Aeronautical Information Services, AJV-A35.

[FR Doc. 2023-27595 Filed 12-14-23; 8:45 am]

BILLING CODE 4910-13-P